DEPARTMENT OF COMMERCE

National Oceanic and Atmospheric Administration

50 CFR Part 660

RIN 0648-XG660

Fisheries Off West Coast States; Coastal Pelagic Species Fisheries; Amendment 17 to the Coastal Pelagic Species Fishery Management Plan

AGENCY: National Marine Fisheries Service (NMFS), National Oceanic and Atmospheric Administration (NOAA), Commerce.

ACTION: Notice of agency decision.

SUMMARY: NMFS announces the approval of Amendment 17 to the Coastal Pelagic Species Fishery Management Plan. On June 10, 2019, the Regional Administrator of the West Coast Region, NMFS, with the concurrence of the Assistant Administrator for Fisheries, approved Amendment 17 to the Coastal Pelagic Species Fishery Management Plan. The intent of Amendment 17 is to allow the Pacific Fishery Management Council flexibility in recommending restrictions on the live bait portion of the fishery when a stock is overfished.

DATES: The amendment was approved on June 10, 2019.

ADDRESSES: Copies of the Coastal Pelagic Species Fishery Management Plan as amended through Amendment 17, are available at the Pacific Fishery Management Council, 7700 NE Ambassador Place, Suite 101, Portland, OR 97220-1384, or at this URL: https://www.pcouncil.org/coastal-pelagic-species/fishery-management-plan-and-amendments/.

FOR FURTHER INFORMATION CONTACT: Lynn Massey, Sustainable Fisheries Division, NMFS West Coast Region, at 562-436-2462; or Kerry Griffin, Pacific Fishery Management Council, at 503-820-2280.

SUPPLEMENTARY INFORMATION: Amendment 17 removed the pre-specified incidental landing limit for overfished stocks for vessels fishing for live bait. Prior to Amendment 17, if a Coastal Pelagic Species stock were to become overfished, and even prior to adoption of a rebuilding plan, the Fishery Management Plan automatically limited retention in the live bait fishery of that stock to only incidentally caught fish with no more than 15 percent of any load being from the overfished stock.

NMFS published a Notice Availability for Amendment 17 on March 22, 2019 (84 FR 10768), and solicited public comments through May 21, 2019. NMFS received three public comments from industry representatives in support of Amendment 17. The industry representatives included the American Albacore Fishing Associations, the Sportfishing Association of California, and a private fisherman from southern California.

There are no implementing regulations associated with Amendment 17; therefore, NMFS did not promulgate a proposed and final rule to implement this amendment.

Authority: 16 U.S.C. 1801 et seq.

Dated: August 9, 2019.
Samuel D. Rauch III,
Deputy Assistant Administrator for Regulatory Programs, National Marine Fisheries Service.

[FR Doc. 2019-17465 Filed 8-13-19; 8:45 am]

BILLING CODE 3510-22-P